DEPARTMENT OF LABOR

Employment and Training Administration

[TA-W-51,130]

Tyler Refrigeration, Carrier Commercial Refrigeration, Carrier Corporation, Waxahachie, TX; Amended Certification Regarding Eligibility To Apply for Worker Adjustment Assistance

In accordance with section 223 of the Trade Act of 1974 (19 U.S.C. 2273) the Department of Labor issued a Certification of Eligibility to Apply for Worker Adjustment Assistance on May 15, 2003, applicable to workers of Tyler Refrigeration, Waxahachie, Texas. The notice was published in the Federal Register on June 3, 2003 (68 FR 33195).

At the request of the State agency, the Department reviewed the certification for workers of the subject firm. The workers are engaged in the production of refrigerated food display cases.

Information shows that Carrier Corporation is the parent firm of Tyler Refrigeration. Information also shows that workers separated from employment at the subject firm had their wages reported under separate unemployment insurance (UI) tax accounts for Carrier Commercial Refrigeration, Carrier Corporation.

Accordingly, the Department is amending the certification to properly reflect this matter.

The intent of the Department's certification is to include all workers of Tyler Refrigeration who were adversely affected by increased imports.

The amended notice applicable to TA-W-51,130 is hereby issued as follows:

All workers of Tyler Refrigeration, Carrier Commercial Refrigeration, Carrier Corporation, Waxahachie, Texas, who became totally or partially separated from employment on or after March 7, 2002, through May 15, 2005, are eligible to apply for adjustment assistance under section 223 of the Trade Act of 1974.

Dated: Signed at Washington, DC, this 3rd day of July, 2003.
Richard Church,
Certifying Officer, Division of Trade Adjustment Assistance.

[FR Doc. 03-17828 Filed 7-14-03; 8:45 am]

BILLING CODE 4510-30-P